DEPARTMENT OF AGRICULTURE

Submission for OMB Review; Comment Request

October 29, 2024.

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by December 2, 2024. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service

Title: Hawaii Farm Technology Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. This project will collect data from a sample of farmers and ranchers with land operated in the State of Hawaii. The reference period will be calendar year 2024.

General authority for these data collection activities is granted under 7 U.S.C. 2204. This survey will be conducted on a full cost recovery basis with the Hawaii Department of Agriculture.

Need and Use of the Information: The purpose of this survey is to collect data related to what types of technologies are used on farms during the past year. These technologies will include both physical and non-physical types such as tablets, applications, automatic sensors, etc. The collected data will be used by the State Department of Agriculture and Land Grant University to determine the need for providing assistance to farmers and ranchers to fulfill their technology needs, indicated by the data.

Description of Respondents: Farmers.

Number of Respondents: 1,800.

Frequency of Responses: Reporting: Once a year.

Total Burden Hours: 503.

Levi S. Harrell,
Departmental Information Collection Clearance Officer.

[FR Doc. 2024-25479 Filed 10-31-24; 8:45 am]

BILLING CODE 3410-20-P